COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: January 21, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION:

Additions

On 9/22/2023, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Enterprise Services Center Support

Mandatory for: NASA, NASA Shared Services Center, Stennis Space Center, MS

Designated Source of Supply: InspiriTec, Inc., Philadelphia, PA

Contracting Activity: NATIONAL AERONAUTICS AND SPACE ADMINISTRATION, NASA SHARED SERVICES CENTER

Deletions

On 11/17/2023, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7530-01-463-2324—Folder, File, ⅓ Cut Tab, Classification, Pressboard, 2 Dividers, 6 Part, Earth Red, Legal

7530-01-463-2326—Folder, File, ⅓ Cut Tab, Classification, Pressboard, 2 Dividers, 6 Part, Blue, Legal

7530-01-463-2330—Folder, File, ⅓ Cut Tab Classification, Pressboard, 1 Divider, 4 Part, Light Green, Letter

7530-01-517-1781—Folder, File, ⅓ Cut Tab, Classification, Pressboard, 2 Dividers, 6 Part, Green, Legal

7530-01-523-4594—Folder, File, ⅓ Cut Tab, Classification, Pressboard, 1 Divider, 4 Part, Earth Red, Letter

Contracting Activity: GSA/FAS ADMIN SVCS ACQUISITION BR(2, NEW YORK, NY

NSN(s)—Product Name(s):

8455-00-NIB-0139—Name Tape, Embroidered, USAF, Tigerstripe

8455-00-NIB-0140—Service Tape, Embroidered, USAF, Tigerstripe

Designated Source of Supply: LIONS INDUSTRIES FOR THE BLIND, INC, Kinston, NC

Contracting Activity: FA3016 502 CONS CL JBSA, FORT SAM HOUSTON, TX

Service(s)

Service Type: Switchboard Operation

Mandatory for: US Air Force, Telephone Operator Consolidated Call Center, Joint Base Langley-Eustis, VA; 180 Benedict Avenue; Joint Base Langley-Eustis, VA

Designated Source of Supply: VersAbility Resources, Inc., Hampton, VA

Contracting Activity: DEPT OF THE AIR FORCE, FA4890 ACC AMIC

Service Type: Janitorial/Custodial

Mandatory for: Hannibal Federal Building, Hannibal, MO; 801 Broadway; Hannibal, MO

Contracting Activity: PUBLIC BUILDINGS SERVICE, GSA/PUBLIC BUILDINGS SERVICE

Service Type: Laundry/Dry Cleaning

Mandatory for: US Air Force, 911th Airlift Wing, Pittsburg International Airport ARS; 2375 Defense Avenue; Coraopolis, PA

Designated Source of Supply: Hancock County Sheltered Workshop, Inc., Weirton, WV

Contracting Activity: DEPT OF THE AIR FORCE, FA6712 911 AW LGC

Michael R. Jurkowski,
Acting Director, Business Operations.

[FR Doc. 2023-28281 Filed 12-21-23; 8:45 am]

BILLING CODE 6353-01-P